DEPARTMENT OF ENERGY

Federal Energy Regulatory Commission

Combined Notice of Filings #1

November 19, 2007.

Take notice that the Commission has received the following Natural Gas Pipeline Rate and Refund Report filings:

Docket Numbers: RP96-312-172.

Applicants: Tennessee Gas Pipeline Company.

Description: Tennessee Gas Pipeline Co. submits a compliance filing re negotiated rate agreement amendments with Boston Gas Co. etc.

Filed Date: 11/13/2007.

Accession Number: 20071116-0011.

Comment Date: 5 p.m. Eastern Time on Monday, November 26, 2007.

Docket Numbers: RP96-359-035.

Applicants: Transcontinental Gas Pipe Line Corp.

Description: Transcontinental Gas Pipe Line Corp. submits two executed service agreements that contain negotiated rates.

Filed Date: 11/09/2007.

Accession Number: 20071113-0131.

Comment Date: 5 p.m. Eastern Time on Wednesday, November 21, 2007.

Docket Numbers: RP07-179-003.

Applicants: Gulf South Pipeline Company, LP.

Description: Gulf South Pipeline Company, LP submits Second Sub, Original Sheet 4764 et. al. to FERC Gas Tariff, Sixth Revised Volume 1, to be effective 12/17/07.

Filed Date: 11/13/2007.

Accession Number: 20071116-0008.

Comment Date: 5 p.m. Eastern Time on Monday, November 26, 2007.

Docket Numbers: RP97-186-004.

Applicants: Trunkline Gas Company, LLC.

Description: Trunkline Gas Company, LLC submits Second Revised Sheet 28 to FERC Gas Tariff, Third Revised Volume 1, proposed to be effective 12/15/07.

Filed Date: 11/14/2007.

Accession Number: 20071116-0009.

Comment Date: 5 p.m. Eastern Time on Monday, November 26, 2007.

Docket Numbers: RP07-630-001.

Applicants: East Tennessee Natural Gas, LLC.

Description: East Tennessee Natural Gas, LLC submits First Revised Sheet 21A to FERC Gas Tariff, Third Revised Volume 1, effective as of 11/8/07 under RP07-630.

Filed Date: 11/08/2007.

Accession Number: 20071115-0235.

Comment Date: 5 p.m. Eastern Time on Wednesday, November 21, 2007.

Docket Numbers: RP99-301-172.

Applicants: ANR Pipeline Company.

Description: ANR Pipeline submits Rate Schedule FTS-3 negotiated rate service agreement with Wisconsin Electric Power Co.

Filed Date: 11/14/2007.

Accession Number: 20071116-0013.

Comment Date: 5 p.m. Eastern Time on Monday, November 26, 2007.

Docket Numbers: RP99-513-044.

Applicants: Questar Pipeline Company.

Description: Questar Pipeline Co submits Second Revised Sheet 7.01 et. al. to FERC Gas Tariff, First Revised Volume 1, to be effective 11/1/07.

Filed Date: 11/14/2007.

Accession Number: 20071116-0012.

Comment Date: 5 p.m. Eastern Time on Monday, November 26, 2007.

Docket Numbers: RP08-33-001.

Applicants: Texas Eastern Transmission LP.

Description: Texas Eastern Transmission, LP submits their Fourteenth Revised Sheet 40A, to FERC Gas Tariff, Seventh Revised Volume 1.

Filed Date: 11/09/2007.

Accession Number: 20071113-0132.

Comment Date: 5 p.m. Eastern Time on Wednesday, November 21, 2007.

Docket Numbers: RP08-62-000.

Applicants: Texas Eastern Transmission LP.

Description: Texas Eastern Transmission, LP submits its Fourth Revised Sheet 543A to FERC Gas Tariff, Seventh Revised Volume 1.

Filed Date: 11/09/2007.

Accession Number: 20071113-0134.

Comment Date: 5 p.m. Eastern Time on Wednesday, November 21, 2007.

Docket Numbers: RP08-63-000.

Applicants: ANR Storage Company.

Description: ANR Storage Company submits Fourth Revised Sheet 146 to FERC Gas Tariff, Original Volume 1, effective 12/15/07.

Filed Date: 11/13/2007.

Accession Number: 20071114-0129.

Comment Date: 5 p.m. Eastern Time on Monday, November 26, 2007.

Docket Numbers: RP08-64-000.

Applicants: Southern Star Central Gas Pipeline, Inc.

Description: Southern Star Central Gas Pipeline, Inc submits the Annual Operational Flow Order Report for the period of 12 months ending 9/30/07.

Filed Date: 11/15/2007.

Accession Number: 20071116-0014.

Comment Date: 5 p.m. Eastern Time on Tuesday, November 27, 2007.

Docket Numbers: RP08-65-000.

Applicants: High Island Offshore System, L.L.C.

Description: High Island Offshore System, LLC submits Eleventh Revised Sheet 2 et. al. to FERC Gas Tariff, Third Revised Volume 1, effective 12/15/07.

Filed Date: 11/14/2007.

Accession Number: 20071116-0015.

Comment Date: 5 p.m. Eastern Time on Monday, November 26, 2007.

Docket Numbers: RP08-66-000.

Applicants: Questar Pipeline Company.

Description: Questar Pipeline Company submits Forty-Third Revised Sheet 5 et. al. to Original Volume 3 of its FERC Gas Tariff.

Filed Date: 11/15/2007.

Accession Number: 20071116-0051.

Comment Date: 5 p.m. Eastern Time on Tuesday, November 27, 2007.

Docket Numbers: RP08-67-000.

Applicants: Northern Natural Gas Company.

Description: Northern Natural Gas Company submits Third Revised Sheet 54B et. al. to FERC Gas Tariff, Fifth Revised Volume 1.

Filed Date: 11/15/2007.

Accession Number: 20071116-0050.

Comment Date: 5 p.m. Eastern Time on Tuesday, November 27, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Nathaniel J. Davis, Sr.,
Acting Deputy Secretary.

[FR Doc. E7-22950 Filed 11-23-07; 8:45 am]

BILLING CODE 6717-01-P